DEPARTMENT OF TRANSPORTATION

Pipeline and Hazardous Materials Safety Administration Office of Hazardous Materials Safety; Notice of Application for Modification of Special Permit

AGENCY: Pipeline and Hazardous Materials Safety Administration, DOT.

ACTION: List of applications for modification of special permit.

SUMMARY: In accordance with the procedures governing the application for, and the processing of, special permits from the Department of Transportation's Hazardous Material Regulations (49 CFR part 107 Subpart B), notice is hereby given that the Office of Hazardous Materials Safety has received the application described herein. This notice is abbreviated to expedite docketing and public notice. Because the sections affected, modes of transportation, and the nature of application have been shown in earlier Federal Register publications, they are not repeated here. Request of modifications of special permits (e.g. to provide for additional hazardous materials, packaging design changes, additional mode of transportation, etc.) are described in footnotes to the application number. Application numbers with the suffix “M” demote a modification request. There applications have been separated from the new applications for special permits to facilitate processing.

DATES: Comments must be received on or before November 4, 2005.

Address Comments To: Record Center, Pipeline and Hazardous Materials Safety Administration, U.S. Department of Transportation, Washington, DC 20590.

Comments should refer to the application number and be submitted in triplicate. If confirmation of receipt of comments is desired, include a self-address stamped postcard showing the special permit number.

FOR FURTHER INFORMATION CONTACT: Copies of the applications are available for inspection in the Records Center, Nassif Building, 400 7th Street SW., Washington DC or at http://dms.dot.gov.

This notice of receipt of applications for modifications of special permits is published in accordance with part 107 of the Federal hazardous materials transportation law (49 U.S.C. 5117(b); 49 CFR 1.53(b)).

Issued in Washington, DC, on October 14, 2005.
R. Ryan Posten,
Chief, Special Permits Program, Office of Hazardous Materials Safety Special Permits & Approvals.

Modification Special Permits
Application No. | Docket No. | Applicant | Regulation(s) affected | Modification of special permit | Nature of special permit thereof
7835-M |  | Rinchem company, Inc., Albuquerque, NM | 49 CFR 172.301(c); 177.848(d) | 7835 | To modify the exemption to authorize the use of alternative combination and single packagings for the transportation of Division 2.1, 2.2, 2.3, 5.1, 4.3, Class 3 and 8 materials on the same motor vehicle.
8915-M |  | Quimobasicos SA de CV, Monterrey, NL | 49 CFR 173.302a(a)(3); 173.301(d); 173.302a(a)(5) | 8915 | To modify the exemption to authorize the transportation of certain manifolded DOT Specification cylinders containing R-22 and R-23 gas mixtures for disposal via incineration.
10427-M |  | Astrotech Space Operations, Inc., Titusville, FL | 49 CFR 173.61(a); 173.301)(f); 173.302a; 173.336; 177.848(d) | 10427 | To modify the exemption to authorize a quantity increase from 700 pounds to 1200 pounds of a Division 2.2 material transported on the same motor vehicle with various hazardous materials.
11967-M | RSPA-97-2991 | Savage Services Corporation, Pottstown, PA | 49 CFR 174.67(i), (j) | 11967 | To modify the exemption to authorize the unloading of an additional Class 8 and 9 material in DOT Specification tank cars.
12783-M | RSPA-01-10309 | CryoSurgery, Inc., Nashville, TN | 49 CFR 173.304a(a)(1); 173.306(a) | 12783 | To modify the exemption to authorize an increased fill capacity to 85% for the transportation of ORM-D materials in non-DOT specification nonrefillable containers.
13032-M | RSPA-02-12442 | Conax Florida Corporation, St. Petersburg, FL | 49 CFR 173.302a(a)(1) | 13032 | To modify the exemption to authorize shipment of non-DOT specification pressure vessels in temperature controlled environments and without 1.4G pyrotechnic devices.
213544-M | RSPA-04-17548 | Blue Rhino Corporation, Winston-Salem, NC | 49 CFR 173.29; 172.301(c); 172.401 | 13544 | To modify the exemption to provide relief from the marking requirements for the transportation of a Division 2.1 material in DOT Specification 4BA240 cylinders.

[FR Doc. 05-21004 Filed 10-19-05; 8:45 am]

BILLING CODE 4909-60-M